DEPARTMENT OF TRANSPORTATION

Federal Aviation Administration Commercial Space Transportation Advisory Committee—Public Teleconference

AGENCY: Federal Aviation Administration (FAA), DOT.

ACTION: Notice of Commercial Space Transportation Advisory Committee Teleconference.

SUMMARY: Pursuant to the Federal Advisory Committee Act, notice is hereby given of a teleconference of the Commercial Space Transportation Advisory Committee (COMSTAC). The Teleconference will take place on Wednesday, September 14, 2016 starting at 3:00 p.m. Eastern Standard Time and will last approximately one hour. The agenda and call-in number will be posted at least one week in advance at http://www.faa.gov/go/ast.

The purpose of this teleconference is to review draft legislation proposed by Representative Jim Bridenstine, Oklahoma, 1st District, that would authorize the Department of Transportation to perform an enhanced version of its current payload review process and consult with its interagency partners to ensure the compliance of proposed commercial space activities with U.S. treaty obligations, and national security and foreign policy interests. Examples of the types of activities that could fall under this authority include commercial space stations, satellite servicing, space resource utilization, and operations beyond Earth orbit. The FAA recently used an ad-hoc version of this approach to authorize a U.S. company to carry out the first private mission on the Moon.

Interested members of the public may submit relevant written statements for the COMSTAC members to consider under the advisory process. Statements may concern the issues and agenda items mentioned above and/or additional issues that may be relevant for the U.S. commercial space transportation industry. Interested parties wishing to submit written statements should contact Michael Beavin, COMSTAC Executive Director, (the Contact Person listed below) in writing (mail or email) by September 9, 2016, so that the information can be made available to COMSTAC members for their review and consideration before the September 14 teleconference. Written statements should be supplied in the following formats: one hard copy with original signature and/or one electronic copy via email.

An agenda will be posted on the FAA Web site at www.faa.gov/go/ast.

Individuals who plan to participate and need special assistance should inform the Contact Persons listed below in advance of the meeting.

FOR FURTHER INFORMATION CONTACT: Michael Beavin, telephone (202) 267-9051; email Michael.beavin@faa.gov, FAA Office of Commercial Space Transportation (AST-3), 800 Independence Avenue SW., Room 331, Washington, DC 20591.

Complete information regarding COMSTAC is available on the FAA Web site at: http://www.faa.gov/about/office_org/headquarters_offices/ast/advisory_committee/.

Authority: Public Law 92-463, 5 U.S.C. App. 2.

Issued in Washington, DC, August 24, 2016.
George C. Nield,
Associate Administrator for Commercial Space Transportation.

[FR Doc. 2016-20796 Filed 8-29-16; 8:45 am]

BILLING CODE 4910-13-P